INTERNATIONAL TRADE COMMISSION

[USITC SE-10-007]

Sunshine Act Meeting Notice

Agency Holding the Meeting: United States International Trade Commission.

Time and Date: April 14, 2010 at 11 a.m.

Place: Room 101, 500 E Street SW., Washington, DC 20436. Telephone: (202) 205-2000.

Status: Open to the public.

Matters To Be Considered

1. Agenda for future meetings: none.

2. Minutes.

3. Ratification List.

4. Inv. Nos. 701-TA-462 and 731-TA-1156-1158 (Final)(Polyethylene Retail Carrier Bags from Indonesia, Taiwan, and Vietnam)—briefing and vote. (The Commission is currently scheduled to transmit its determinations and Commissioners' opinions to the Secretary of Commerce on or before April 26, 2010.)

5. Outstanding action jackets:

(1) Document No. GC-10-028 concerning Inv. No. 337-TA-644 (Certain Composite Wear Components and Products Containing Same).

In accordance with Commission policy, subject matter listed above, not disposed of at the scheduled meeting, may be carried over to the agenda of the following meeting. Earlier announcement of this meeting was not possible.

Issued: April 6, 2010.
By order of the Commission.
William R. Bishop,
Hearings and Meetings Coordinator.

[FR Doc. 2010-8199 Filed 4-7-10; 11:15 am]

BILLING CODE 7020-02-P